DEPARTMENT OF TRANSPORTATION

Federal Aviation Administration

14 CFR Part 39

[Docket No. FAA-2012-1320; Directorate Identifier 2012-NM-095-AD; Amendment 39-17618; AD 2013-20-12]

RIN 2120-AA64

Airworthiness Directives; The Boeing Company Airplanes

AGENCY: Federal Aviation Administration (FAA), DOT.

ACTION: Final rule.

SUMMARY: We are adopting a new airworthiness directive (AD) for certain The Boeing Company Model 767 airplanes. This AD was prompted by reports of cracks and heat damage on pivot joint components found during main landing gear (MLG) overhaul. This AD requires, for certain airplanes, repetitive inspections of the MLG pivots, truck beam bushings, and inner cylinder bushings. For all airplanes, this AD requires a maintenance program revision, one-time inspections of the MLG truck beam, and related investigative and corrective actions (including configuration changes) if necessary; accomplishment of these actions terminates the repetitive inspections. We are issuing this AD to detect and correct heat damage and cracks in the pivot pin, truck beam lugs, and inner cylinder lugs, which could result in fracture of the pivot joint components and consequent MLG collapse.

DATES: This AD is effective November 7, 2013.

The Director of the Federal Register approved the incorporation by reference of a certain publication listed in the AD as of November 7, 2013.

ADDRESSES: For service information identified in this AD, contact Boeing Commercial Airplanes, Attention: Data & Services Management, P.O. Box 3707, MC 2H-65, Seattle, WA 98124-2207; telephone 206-544-5000, extension 1; fax 206-766-5680; Internet https://www.myboeingfleet.com. You may review copies of the referenced service information at the FAA, Transport Airplane Directorate, 1601 Lind Avenue SW., Renton, Washington. For information on the availability of this material at the FAA, call 425-227-1221.

Examining the AD Docket

You may examine the AD docket on the Internet at http://www.regulations.gov; or in person at the Docket Management Facility between 9 a.m. and 5 p.m., Monday through Friday, except Federal holidays. The AD docket contains this AD, the regulatory evaluation, any comments received, and other information. The address for the Docket Office (phone: 800-647-5527) is Document Management Facility, U.S. Department of Transportation, Docket Operations, M-30, West Building Ground Floor, Room W12-140, 1200 New Jersey Avenue SE., Washington, DC 20590.

FOR FURTHER INFORMATION CONTACT: Berhane Alazar, Aerospace Engineer, Airframe Branch, ANM-120S, FAA, Seattle Aircraft Certification Office (ACO), 1601 Lind Avenue SW., Renton, Washington 98057-3356; phone: 425-917-6577; fax: 425-917-6590; email: berhane.alazar@faa.gov.

SUPPLEMENTARY INFORMATION:

Discussion

We issued a notice of proposed rulemaking (NPRM) to amend 14 CFR part 39 to include an AD that would apply to the specified products. The NPRM published in the Federal Register on January 30, 2013 (78 FR 6251). For certain airplanes, the NPRM proposed to require repetitive inspections of the MLG pivots, truck beam bushings, and inner cylinder bushings. For all airplanes, the NPRM proposed to require a maintenance program revision, one-time inspections of the MLG truck beam, and related investigative and corrective actions (including configuration changes) if necessary; accomplishment of these actions would terminate the repetitive inspections.

Comments

We gave the public the opportunity to participate in developing this AD. The following presents the comments received on the proposal (78 FR 6251, January 30, 2013) and the FAA's response to each comment.

Support for NPRM (78 FR 6251, January 30, 2013)

American Airlines (American) noted no issue with this proposed AD (78 FR 6251, January 30, 2013), and reported that the proposed compliance time will allow the work to be done during normal gear overhaul.

Request To Clarify Applicability

Aviation Partners Boeing (APB) stated that the installation of winglets per supplemental type certificate (STC) ST01920SE (http://rgl.faa.gov/Regulatory_and_Guidance_Library/rgstc.nsf/0/082838ee177dbf62862576a4005cdfc0/$FILE/ST01920SE.pdf) does not affect the accomplishment of the manufacturer's service instructions. Delta Airlines (Delta) noted that several previous ADs have included similar information about the APB winglet modification, and requested that we clarify the applicability of the NPRM (78 FR 6251, January 30, 2013) by including this provision.

We agree. We have re-designated paragraph (c) as (c)(1) and added paragraph (c)(2) to this final rule, which states that STC ST01920SE (http://rgl.faa.gov/Regulatory_and_Guidance_Library/rgstc.nsf/0/082838ee177dbf62862576a4005cdfc0/$FILE/ST01920SE.pdf) does not affect the ability to accomplish the actions required by this AD. Therefore, for airplanes on which STC ST01920SE is installed, a “change in product” alternative method of compliance (AMOC) approval request is not necessary to comply with the requirements of Section 39.17 of the Federal Aviation Regulations (14 CFR 39.17). For all other AMOC requests, the operator must request approval of an AMOC in accordance with the procedures specified in paragraph (n) of this AD.

Request To Extend Compliance Time

UPS requested that we revise paragraph (g) of the NPRM (78 FR 6251, January 30, 2013) to specify the repetitive interval for the lubrication schedule (as referenced in Boeing Service Bulletin 767-32A0227, Revision 1, dated September 13, 2012). UPS stated that changing the current interval (14 days or 50 flight cycles) to 650 flight hours would provide adequate lubrication and a simplified method of tracking compliance with the lubrication interval. UPS stated that the lubrication could be scheduled along with the lubrication of other components located in that area, which is required by AD 2006-07-14, Amendment 39-14541 (71 FR 17691, April 7, 2006), for certain Model 767-200, -300, and -300F series airplanes. UPS added that the NPRM's proposed compliance time of 14 days/50 flight cycles to lubricate the MLG truck pivot pin conflicts with the existing UPS maintenance program, 14 days/30 flight cycles, and does not add any increased benefit to safety.

We disagree with the request, in light of the number of cracks that have been found in inner cylinder pivot bores due to friction-generated heat damage. More frequent lubrication reduces friction in the joint. Also, the Boeing 767-200/-300/-300F maintenance planning document was previously changed to specify 14 days/50 flight cycles for these actions. Under the provisions of paragraph (n) of this final rule, however, we may consider individual requests for adjustments to the compliance time if data are submitted to substantiate that such an adjustment would provide an acceptable level of safety. We have not changed the final rule regarding this issue.

Request To Revise Inspection Requirements

Paragraph (h) of the NPRM (78 FR 6251, January 30, 2013) specified “detailed and etch inspections” for Model 767-400ER airplanes. Boeing requested that we limit this requirement to a “detailed inspection.” Boeing reported that the referenced service information for this proposed requirement erroneously specifies “detailed and etch inspections” in table 2 of paragraph 1.E., “Compliance,” of Boeing Service Bulletin 767-32A0227, Revision 1, dated September 13, 2012. Boeing explained that etch inspections do not apply to Model 767-400ER airplanes (Group 1) because those truck and inner cylinder pivot lugs are chrome plated. Boeing stated that affected operators will be notified of this error, which will be corrected when this service bulletin is revised. Boeing noted that the error appears only in paragraph 1.E., “Compliance”—and not the Work Instructions (Parts 6 and 7)—of this service bulletin.

We agree with the request for the reasons provided by the commenter. We have revised paragraph (h) in this final rule accordingly.

Request To Revise Inspection Condition: Wear

Paragraph (h) of the NPRM (78 FR 6251, January 30, 2013) specified inspections to detect, among other things, “wear” of the MLG pivot pins. Boeing asserted that, since wear is a normal occurrence, “wear” should be changed to “wear beyond limits” to correspond to this condition as described in Boeing Service Bulletin 767-32A0227, Revision 1, dated September 13, 2012.

We agree that clarification is necessary. Specific wear limits are defined in condition 4, table 5, of paragraph 1.E., “Compliance,” of Boeing Service Bulletin 767-32A0227, Revision 1, dated September 13, 2012. No change to this final rule is necessary.

Request To Revise Inspection Condition: Grease in Inner Diameters

Paragraph (h) of the NPRM (78 FR 6251, January 30, 2013) also specified inspections to detect “grease not present in the bushing inner diameter.” Boeing contended this step is unnecessary, since operators must clean the pivot joint before the inspection, so there would be no grease present on the bushing inner diameters. (Boeing Service Bulletin 767-32A0227, Revision 1, dated September 13, 2012, specifies applying grease through the lube fittings as part of the inspection process to check for clogged lube passages.) Boeing therefore requested that we revise this condition to “grease not appearing in the bushing inner diameters when applied through the lube fittings” to more closely match the service bulletin description.

We agree with the request, for the reasons provided by the commenter. We have changed paragraph (h) in this final rule accordingly.

Request To Revise Descriptive Heading

The descriptive heading for paragraph (i) of the NPRM (78 FR 6251, January 30, 2013) was “MLG Truck Beam Inspections.” Boeing requested that we change this heading to “MLG Truck Beam and Inner Cylinder Configuration Change.” Boeing contended that this change would emphasize the main purpose of Boeing Service Bulletin 767-32A0227, Revision 1, dated September 13, 2012—to replace the aluminum-nickel-bronze bushings with copper-nickel-tin bushings.

We agree with the commenter's request and rationale. Boeing Service Bulletin 767-32A0227, Revision 1, dated September 13, 2012, specifies this configuration change. We have revised the heading accordingly in this final rule.

Request To Clarify Inspection Locations

Paragraph (i) of the NPRM (78 FR 6251, January 30, 2013) specified inspections of the “truck beam.” Boeing requested that we revise this proposed requirement to add inspection of the “inner cylinders.” Boeing stated that the main purpose of Boeing Service Bulletin 767-32A0227, Revision 1, dated September 13, 2012, is to replace the truck beam and inner cylinder pivot-joint bushings, and asserted that the NPRM omitted the inner cylinder bushings and emphasized the inspection process rather than the configuration change.

We agree with the request and have changed paragraph (i) accordingly in this final rule.

Request To Include Heat Damage as an Inspection Condition

Paragraph (i) of the NPRM (78 FR 6251, January 30, 2013) specified inspections to detect, among other things, “distress, corrosion, and cracking.” Boeing requested that we add “heat damage” to these conditions to more closely match the language of Boeing Service Bulletin 767-32A0227, Revision 1, dated September 13, 2012. Boeing stated that heat damage, explicitly identified as a condition in this service bulletin, is the primary type of damage to be expected.

We agree to clarify the possible findings of the inspection. Boeing Service Bulletin 767-32A0227, Revision 1, dated September 13, 2012, specifies various conditions based on the airplane group, and heat damage is identified as one of those conditions. We have changed paragraph (i) in this final rule to clarify that the inspection is intended to detect “applicable discrepancies” specified in Boeing Service Bulletin 767-32A0227, Revision 1, dated September 13, 2012.

Request To Allow Terminating Action per Service Information

Paragraph (k)(2) of the NPRM (78 FR 6251, January 30, 2013) specified that overhaul of the MLG and installation of certain truck beam and inner cylinder bushings terminate the inspection requirements, if those actions are done using an FAA-approved alternative method of compliance (AMOC). Boeing stated that the MLG overhaul includes investigative and corrective actions that are equivalent to those found in Boeing Service Bulletin 767-32A0227, Revision 1, dated September 13, 2012, so an overhaul should be an acceptable substitute for those actions. Boeing stated that most or all operators are expected to use the overhaul option, which is available in this service bulletin, so FAA approval of this service bulletin would make the process for requesting AMOC approval (as specified in paragraph (k)(2) of the NPRM) unnecessary.

We disagree with the request because the overhaul procedures necessary to address the unsafe condition identified in this AD would encompass significantly more work than the commenter described. Operators must contact the FAA to obtain approval for an acceptable method to ensure that the overhaul meets the requirement of this AD. We have not changed the final rule regarding this issue.

Request To Include Part References

Delta requested that we clarify the proposed actions specified in paragraphs (h) and (i) of the NPRM (78 FR 6251, January 30, 2013) by also identifying the applicable Parts of the Accomplishment Instructions of Boeing Service Bulletin 767-32A0227, Revision 1, dated September 13, 2012.

We agree with the request. We have added references to “Part 2” in paragraph (h) of this final rule and “Part 3” in paragraph (i) of this final rule.

Request To Account for Related AD

UPS requested that we revise paragraph (b) of the NPRM (78 FR 6251, January 30, 2013) to refer to AD 2006-07-14, Amendment 39-14541 (71 FR 17691, April 7, 2006). UPS stated that the new copper-nickel-tin bushing material (identified in the NPRM and Boeing Service Bulletin 767-32A0227, Revision 1, dated September 13, 2012), replaces the aluminum-nickel-bronze bushing material specified in AD 2006-07-14. UPS asserted that compliance with both the NPRM and AD 2006-07-14 cannot be concurrently satisfied because the NPRM, which would require use of copper-nickel-tin material, conflicts with AD 2006-07-14, which requires use of aluminum-nickel-bronze bushing material. UPS stated that Boeing Service Bulletin 767-32A0227, Revision 1, dated September 13, 2012, explains that use of the new copper-nickel-tin bushing material is an AMOC to AD 2006-07-14, and requested that we revise the NPRM to include this AMOC.

We find that clarification is necessary. Paragraph 1.F., “Approval,” of Boeing Service Bulletin 767-32A0227, Revision 1, dated September 13, 2012, already addresses the issue raised by the commenter. Specifically, paragraph (j) of AD 2006-07-14, Amendment 39-14541 (71 FR 17691, April 7, 2006), specifies installing aluminum-nickel-bronze bushings as part of the terminating action. This final rule requires replacement of those aluminum-nickel-bronze bushings with bushings made of copper-nickel-tin material. Using a copper-nickel-tin bushing is considered to be an AMOC for installing an aluminum-nickel-bronze bushing, when installed as part of the terminating action for paragraph (j) of AD 2006-07-14. As requested by the commenter, we changed paragraph (b) of this final rule to clarify that this AD affects AD 2006-07-14.

Requests To Correct Typographical Error

Boeing and Delta noted a typographical error in paragraph (h) of the NPRM (78 FR 6251, January 30, 2013), which incorrectly specified inspecting “pivots” instead of “pivot pins.”

We acknowledge the error and have corrected paragraph (h) in this final rule accordingly.

Conclusion

We reviewed the relevant data, considered the comments received, and determined that air safety and the public interest require adopting this AD with the changes described previously—and minor editorial changes. We have determined that these minor changes:

• Αre consistent with the intent that was proposed in the NPRM (78 FR 6251, January 30, 2013) for correcting the unsafe condition; and

• Do not add any additional burden upon the public than was already proposed in the NPRM (78 FR 6251, January 30, 2013).

We also determined that these changes will not increase the economic burden on any operator or increase the scope of this AD.

Costs of Compliance

We estimate that this AD affects 420 airplanes of U.S. registry. We estimate the following costs to comply with this AD:

Estimated Costs
Action | Labor cost | Parts cost | Cost per product | Number of affected U.S. airplanes | Cost on U.S. operators
Maintenance program revision | 1 work-hour × $85 per hour = $85 | $0 | $85 | 420 | $35,700.
Repetitive inspections | 59 work-hours × $85 per hour = $5,015 per inspection cycle | 0 | $5,015 per inspection cycle | 38 | $190,570 per inspection cycle.
One-time inspections | 147 work-hours × $85 per hour = $12,495 | 0 | $12,495 | 420 | $5,247,900.

We have received no definitive data that would enable us to provide cost estimates for the on-condition actions (including related investigative actions, configuration changes, and corrective actions) specified in this AD.

Authority for This Rulemaking

Title 49 of the United States Code specifies the FAA's authority to issue rules on aviation safety. Subtitle I, section 106, describes the authority of the FAA Administrator. Subtitle VII: Aviation Programs, describes in more detail the scope of the Agency's authority.

We are issuing this rulemaking under the authority described in Subtitle VII, Part A, Subpart III, Section 44701: “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

This AD will not have federalism implications under Executive Order 13132. This AD will not have a substantial direct effect on the States, on the relationship between the national government and the States, or on the distribution of power and responsibilities among the various levels of government.

For the reasons discussed above, I certify that this AD:

(1) Is not a “significant regulatory action” under Executive Order 12866,

(2) Is not a “significant rule” under DOT Regulatory Policies and Procedures (44 FR 11034, February 26, 1979),

(3) Will not affect intrastate aviation in Alaska, and

(4) Will not have a significant economic impact, positive or negative, on a substantial number of small entities under the criteria of the Regulatory Flexibility Act.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive (AD):

2013-20-12 The Boeing Company: Amendment 39-17618 ; Docket No. FAA-2012-1320; Directorate Identifier 2012-NM-095-AD.

(a) Effective Date

This AD is effective November 7, 2013.

(b) Affected ADs

AD 2006-07-14, Amendment 39-14541 (71 FR 17691, April 7, 2006), is affected by this AD.

(c) Applicability

(1) This AD applies to The Boeing Company Model 767-200, -300, -300F, and -400ER series airplanes, certificated in any category, as identified in Boeing Service Bulletin 767-32A0227, Revision 1, dated September 13, 2012.

(2) Installation of Supplemental Type Certificate (STC) ST01920SE (http://rgl.faa.gov/Regulatory_and_Guidance_Library/rgstc.nsf/0/082838ee177dbf62862576a4005cdfc0/$FILE/ST01920SE.pdf) does not affect the ability to accomplish the actions required by this AD. Therefore, for airplanes on which STC ST01920SE is installed, a “change in product” alternative method of compliance (AMOC) approval request is not necessary to comply with the requirements of 14 CFR 39.17.

(d) Subject

Joint Aircraft System Component (JASC)/Air Transport Association (ATA) of America Code 32, Landing Gear.

(e) Unsafe Condition

This AD was prompted by reports of cracks and heat damage found on pivot joint components found during main landing gear (MLG) overhaul. We are issuing this AD to detect and correct heat damage and cracks in the pivot pin, truck beam lugs, and inner cylinder lugs, which could result in fracture of the pivot joint components and consequent MLG collapse.

(f) Compliance

Comply with this AD within the compliance times specified, unless already done.

(g) Maintenance Program Revision

At the applicable times specified in paragraph 1.E., “Compliance,” of Boeing Service Bulletin 767-32A0227, Revision 1, dated September 13, 2012, except as provided by paragraph (j) of this AD, revise the maintenance program to incorporate the specified maintenance review board (MRB) item, in accordance with Part 1 of the Accomplishment Instructions of Boeing Service Bulletin 767-32A0227, Revision 1, dated September 13, 2012.

(h) Repetitive Pivot Pin and Bushing Inspections

For airplanes identified as Group 1 in Boeing Service Bulletin 767-32A0227, Revision 1, dated September 13, 2012: At the applicable times specified in paragraph 1.E., “Compliance,” of Boeing Service Bulletin 767-32A0227, Revision 1, dated September 13, 2012, except as provided by paragraph (j) of this AD, do a detailed inspection to detect discrepancies (including bronze transfer, heat discoloration, darkened streaks, thermal spray coating distress, wear, cracking, smearing of material into the lubrication grooves, or grease not appearing in the bushing inner diameters when applied through the lube fittings) of the MLG pivot pins, truck beam bushings, and inner cylinder bushings, and do all applicable corrective actions, in accordance with Part 2 of the Accomplishment Instructions of Boeing Service Bulletin 767-32A0227, Revision 1, dated September 13, 2012. Do all applicable corrective actions before further flight. Repeat the inspection thereafter at the applicable times specified in paragraph 1.E., “Compliance,” of Boeing Service Bulletin 767-32A0227, Revision 1, dated September 13, 2012.

(i) Inspections of MLG Truck Beam and Inner Cylinder Configuration Change

For all airplanes: At the applicable time specified in paragraph 1.E., “Compliance,” of Boeing Service Bulletin 767-32A0227, Revision 1, dated September 13, 2012, except as provided by paragraph (j) of this AD, inspect the MLG truck beam and inner cylinders, using a detailed inspection, etch inspection, and fluorescent penetrant inspection (FPI), as applicable, to detect applicable discrepancies, and do all applicable related investigative and corrective actions (including configuration changes), in accordance with Part 3 of the Accomplishment Instructions of Boeing Service Bulletin 767-32A0227, Revision 1, dated September 13, 2012. Do all applicable related investigative and corrective actions before further flight. Boeing Service Bulletin 767-32A0227, Revision 1, dated September 13, 2012, provides options for accomplishing certain corrective actions.

(j) Service Information Exception

Where Boeing Service Bulletin 767-32A0227, Revision 1, dated September 13, 2012, specifies a compliance time “after the original issue date of this service bulletin,” this AD requires compliance within the specified compliance time after the effective date of this AD.

(k) Terminating Action

(1) Accomplishment of the actions required by paragraphs (g) and (i) of this AD terminates the requirements of paragraph (h) of this AD.

(2) Overhaul of the MLG and installation of truck beam and inner cylinder bushings having applicable part numbers identified in Appendix “B” of Boeing Service Bulletin 767-32A0227, Revision 1, dated September 13, 2012, terminate the requirements of paragraphs (h) and (i) of this AD, if the actions are done using a method approved in accordance with the procedures specified in paragraph (n) of this AD.

(l) No Alternative Actions or Intervals

After accomplishing the revision required by paragraph (g) of this AD, no alternative actions (e.g., inspections) or intervals may be used unless the actions or intervals are approved as an AMOC in accordance with the procedures specified in paragraph (n) of this AD.

(m) Credit for Previous Actions

This paragraph provides credit for the actions specified in paragraphs (g), (h), (i), and (k) of this AD, if those actions were performed before the effective date of this AD using Boeing Alert Service Bulletin 767-32A0227, dated April 25, 2012, which is not incorporated by reference in this AD.

(n) Alternative Methods of Compliance (AMOCs)

(1) The Manager, Seattle Aircraft Certification Office (ACO), FAA, has the authority to approve AMOCs for this AD, if requested using the procedures found in 14 CFR 39.19. In accordance with 14 CFR 39.19, send your request to your principal inspector or local Flight Standards District Office, as appropriate. If sending information directly to the manager of the ACO, send it to the attention of the person identified in paragraph (o)(1) of this AD. Information may be emailed to 9-ANM-Seattle-ACO-AMOC-Requests@faa.gov.

(2) Before using any approved AMOC, notify your appropriate principal inspector, or lacking a principal inspector, the manager of the local flight standards district office/certificate holding district office.

(3) An AMOC that provides an acceptable level of safety may be used for any repair required by this AD if it is approved by the Boeing Commercial Airplanes Organization Designation Authorization (ODA) that has been authorized by the Manager, Seattle ACO, to make those findings. For a repair method to be approved, the repair must meet the certification basis of the airplane, and the approval must specifically refer to this AD.

(o) Related Information

(1) For more information about this AD, contact Berhane Alazar, Aerospace Engineer, Airframe Branch, ANM-120S, FAA, Seattle Aircraft Certification Office (ACO), 1601 Lind Avenue SW., Renton, Washington 98057-3356; phone: 425-917-6577; fax: 425-917-6590; email: berhane.alazar@faa.gov.

(2) Service information identified in this AD that is not incorporated by reference in this AD may be obtained at the addresses specified in paragraphs (p)(3) and (p)(4) of this AD.

(p) Material Incorporated by Reference

(1) The Director of the Federal Register approved the incorporation by reference (IBR) of the service information listed in this paragraph under 5 U.S.C. 552(a) and 1 CFR part 51.

(2) You must use this service information as applicable to do the actions required by this AD, unless the AD specifies otherwise.

(i) Boeing Service Bulletin 767-32A0227, Revision 1, dated September 13, 2012.

(ii) Reserved.

(3) For service information identified in this AD, contact Boeing Commercial Airplanes, Attention: Data & Services Management, P.O. Box 3707, MC 2H-65, Seattle, Washington 98124-2207; telephone 206-544-5000, extension 1; fax 206-766-5680; Internet https://www.myboeingfleet.com.

(4) You may view this service information at Transport Airplane Directorate, 1601 Lind Avenue SW., Renton, Washington. For information on the availability of this material at the FAA, call 425-227-1221.

(5) You may view this service information that is incorporated by reference at the National Archives and Records Administration (NARA). For information on the availability of this material at NARA, call 202-741-6030, or go to http://www.archives.gov/federal-register/cfr/ibr-locations.html.

Issued in Renton, Washington, on September 16, 2013.
Ross Landes,
Acting Manager, Transport Airplane Directorate, Aircraft Certification Service.

[FR Doc. 2013-23898 Filed 10-2-13; 8:45 am]

BILLING CODE 4910-13-P